FEDERAL COMMUNICATIONS COMMISSION

Privacy Act System of Records

AGENCY: Federal Communications Commission (FCC or Commission).

ACTION: Amendment to systems notice.

SUMMARY: Pursuant to subsection (e)(4) of the Privacy Act of 1974, as amended (5 U.S.C. 552a) the FCC is amending and republishing a systems of records notice for FCC/Central-2, “Employee Locator System.” The amended notice addresses comments that were submitted by the Office of Management and Budget (OMB) following the initial publication of the altered system of records notice in the Federal Register on March 28, 2003, 68 FR 15188. OMB comments related to the purposes for maintaining the records in the system and to the retention and disposal of the records. In addition, the FCC is deleting all but the most comprehensive authority for maintaining the records in this system of records.

DATES: The amended system of records shall become effective on August 18, 2003. As required by subsection (r) of the Privacy Act, the FCC has submitted reports on this amended system of records to OMB and both Houses of Congress.

ADDRESSES: For further information, contact Les Smith, Performance Evaluation and Records Management (PERM), Room 1-A804, Federal Communications Commission, 445 12th Street, SW., Washington, DC 20554, (202) 418-0217 or via the Internet at Leslie.Smith@fcc.gov; or Michele Sutton, Director of Human Resources, Room 1-A100, Federal Communications Commission (FCC), 445 12th Street, SW., Washington, DC 20554, (202) 418-0137 or via the Internet at Michele.Sutton@fcc.gov.

SUPPLEMENTARY INFORMATION: As required by the Privacy Act, this document sets forth notice of the amendment of a system of records maintained by the FCC in response to comments received following the altered system's initial publication in the Federal Register on March 28, 2003, 68 FR 15188. This notice provides more detailed information about this amended system of records. The system of records may be viewed at the location given in the ADDRESSES section above. The purposes for amending FCC/Central-2, “Employee Locator System” are to modify the authority under which this system is maintained; to add to the purposes for which the system is being maintained; and to clarify the retention and disposal procedure.

The FCC will achieve these purposes by amending this system of records, FCC/Central-2, “Employee Locator System,” as follows:

Revise the authority under which this system is maintained, to reflect the FCC's determination that 44 U.S.C. 3101 is a more appropriate authority under which the FCC may maintain the records in this system of records;

Add to the purposes for which the records will be used, as suggested by OMB, to allow the FCC to contact an employee at home, or other designated location, to notify him/her when an emergency requires that he/she report/not report for duty; and

Clarify, consistent with OMB comment, that no records will be disposed of until FCC requests and receives records disposition authority from the National Archives and Records Administration (NARA). Upon approval of a records disposition request by NARA, the FCC will publish an amendment of this system of records notice in the Federal Register. In the interim, when an employee leaves the Commission, the FCC's Human Resources Management activity (AMD-HRM) will request NARA's approval to electronically erase the employee's records from the database.

The Human Resources Management activity (AMD-HRM) will use the records in FCC/Central-2, “Employee Locator System,” (1) to identify the individual(s) to contact, should an emergency of a medical or other nature involving the Commission employee occur while the employee is on the job; and (2) to contact the employee at home or other location regarding work-related emergencies that require him/her to report/not report for duty. Initial collection and requested periodic updates of information in the system are voluntary.

FCC/Central-2

SYSTEM NAME:

Employee Locator System.

SECURITY CLASSIFICATION:

This system of records has not been given a security classification.

SYSTEM LOCATION:

Human Resources Management (AMD-HRM), Room 1-A100, Federal Communications Commission (FCC), 445 12th Street, SW., Washington, DC 20554 and 1270 Fairfield Road, Gettysburg, Pennsylvania 17325.

CATEGORIES OF INDIVIDUALS COVERED BY THE SYSTEM:

Current employees of the Federal Communications Commission (FCC).

CATEGORIES OF RECORDS IN THE SYSTEM:

1.The FCC employee's name, Bureau/Office, floor, room number, work and home telephone numbers; and

2. The name(s), e-mail address(es), and telephone number(s) of the individual(s) to contact in the event of a medical or other emergency involving the FCC employee.

AUTHORITY FOR MAINTENANCE OF THE SYSTEM:

44 U.S.C. 3101.

PURPOSE(S):

The records in this system serve:

1. To identify the individual(s) to contact, should an emergency of a medical or other nature involving the Commission employee occur while the employee is on the job; and

2. To allow the FCC to contact an employee at home, or other designated location, to notify him/her when an emergency requires that he/she report/not report for duty Initial collection and requested periodic updates of information in the system are voluntary.

ROUTINE USES OF RECORDS MAINTAINED IN THE SYSTEM, INCLUDING CATEGORIES OF USERS AND THE PURPOSES OF SUCH USES:

A record on an individual in this system of records may be disclosed to emergency medical personnel, i.e., doctors, nurses, and/or paramedics, or to law enforcement officials in case of a medical or other emergency involving the FCC employee.

In each of these cases, the FCC will determine whether disclosure of the record is compatible with the purpose for which the records were collected.

DISCLOSURE TO CONSUMER REPORTING AGENCIES:

The records are not disclosed to consumer reporting agencies.

POLICIES AND PRACTICES FOR STORING, RETRIEVING, ACCESSING, RETAINING, AND DISPOSING OF RECORDS IN THE SYSTEM: STORAGE:

Electronic records are maintained in a network computer database.

RETRIEVABILITY:

Records are retrieved by the employee's name, Bureau/Office, floor, and room number.

SAFEGUARDS:

Electronic records are maintained in a network computer database, which is secured through controlled access and passwords restricted to the employee, Human Resources Management (AMD-HRM) employees, administrative personnel, and emergency relocation site employees.

RETENTION AND DISPOSAL:

Records are maintained as long as the individual is a current employee of the Federal Communications Commission. The FCC will submit a request for records disposition authority to the National Archives and Records Administration's (NARA). Upon approval by NARA, the FCC will publish an amendment of this system of records notice in the Federal Register. In the interim, when an employee leaves the Commission, the Human Resources Management activity (AMD-HRM) will request NARA's approval to electronically remove the employee's records from the database.

SYSTEM MANAGER(S) AND ADDRESS:

Human Resources Management (AMD-HRM), Room 1-A100, Federal Communications Commission's (FCC), 445 12th Street, SW., Washington, DC 20554 and 1270 Fairfield Road, Gettysburg, Pennsylvania 17325.

NOTIFICATION PROCEDURE:

FCC employees wishing to inquire whether this system contains information about them should contact the Human Resources Management (AMD-HRM), Room 1-A100, Federal Communications Commission (FCC), 445 12th Street, SW., Washington, DC 20554 and 1270 Fairfield Road, Gettysburg, Pennsylvania 17325.

Individuals must supply their full name in order for records to be located and identified.

RECORD ACCESS PROCEDURES:

Same as above.

CONTESTING RECORD PROCEDURES:

Same as above.

RECORD SOURCE CATEGORIES:

Individual on whom the record is maintained.

EXEMPTIONS CLAIMED FOR THE SYSTEM:

None.

Federal Communications Commission.
Marlene H. Dortch,
Secretary.

[FR Doc. 03-20536 Filed 8-15-03; 8:45 am]

BILLING CODE 6712-01-U